FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants:

Global Shipping & Freight International Inc., 4405 W. South Ave., Unit #C, Tampa, FL 33614, Officer: Wissam Bahloul, President (Qualifying Individual)

La Costa Logistics Services, Inc., 2842 Corte Papaya, Carlsbad, CA 92009, Officers: Yang Wang, Chief Operating Officer (Qualifying Individual), Chihlung Chao, President

Ultimate Logistics Enterprise, Inc., 13170-A Marlay Avenue, Fontana, CA 92337, Officer: Robert Kwing Tang, President, (Qualifying Individual)

Unlimited Express Corp., U.S.A., 153-40 Rockaway Blvd., 2nd Floor, Jamaica, NY 11434, Officers: Billy Wang, Treasurer (Qualifying Individual) Jacy Chen, President

SWAT Logistics Int'l Inc., 182-30 150 Road, #222, Jamaica, NY 11413, Officers: Min Qiu, President, (Qualifying Individual) Xinjian Yu, Director

Flexitank Food Grade, Inc., Calle Manuel Enrique, #145, Palo Seco, Catano, 00950, Officer: Heracilio Prieto, COO, (Qualifying Individual)

JSJ Express, Inc., 41-60 Main Street, #204, Flushing, NY 11355, Officer: James Wang, President, (Qualifying Individual)

Sun-Way Logistics (USA) Inc., 1641 W. Main Street, Suite 216, Alhambra, CA 91801, Officers: Bo Sun, Director, (Qualifying Individual) Theresa Lee, President

Embarque Tenares Corp., 2249 Washington Avenue, Bronx, NY 10457, Officer: Juan A. Luna, President, (Qualifying Individual)

Non-Vessel-Operating Common Carrier and Ocean Freight Forwarder Transportation Intermediary Applicants:

USCA Forwarding—Seabell Express Inc., dba Seabell Express dba USCA Forwarding, dba USCA-Seabell Inc., 50 Harrison Street, Suite 309, Hoboken, NJ 07030, Officers: Michael Veynberg, Vice President, (Qualifying Individual), John Sims, President

Luciano Shipping, Inc., 952 Intervale Avenue, Bronx, NY 10459, Officer: Marcos Luciano, President, (Qualifying Individual)

Turk Group, Inc. dba MTG (Multi Transportation Group), 3761 South Broadway, Los Angeles, CA 90007, Officers: Cynthia K. Narksuriva, Vice President, (Qualifying Individual), Bilgin Turkesever, CEO

Ocean Freight Forwarder—Ocean Transportation Intermediary Applicants:

Wickman Worldwide Services, Inc., 5 NW. 5th Street, Evansville, IN 47708, Officers: Edward T. Wickman, President, (Qualifying Individual), Christina M. Wickman, Director of Operations

Hiers Global Logistics, Inc., 4152 Mustang Road, Middleburg, FL 32068, Officer: Steven N. Hiers, President, (Qualifying Individual)

Dated: March 25, 2005.
Bryant L. VanBrakle,
Secretary.

[FR Doc. 05-6273 Filed 3-29-05; 8:45 am]

BILLING CODE 6730-01-P